DEPARTMENT OF TRANSPORTATION

Federal Aviation Administration

14 CFR Part 71

[Docket No. FAA-2011-0244 Airspace Docket No. 11-AAL-05]

Revision of Class E Airspace; Yakutat, AK

AGENCY: Federal Aviation Administration (FAA), DOT.

ACTION: Final rule.

SUMMARY: This action revises Class E airspace at the Yakutat Airport, Yakutat, AK. The amendment of eight Standard Instrument Approach Procedures (SIAPs) has made this action necessary to enhance safety and air traffic management of Instrument Flight Rules (IFR) operations at the airport.

DATES: Effective 0901 UTC, October 20, 2011. The Director of the Federal Register approves this incorporation by reference action under title 1, Code of Federal Regulations, part 51, subject to the annual revision of FAA Order 7400.9 and publication of conforming amendments.

FOR FURTHER INFORMATION CONTACT: Martha Dunn, Federal Aviation Administration, 222 West 7th Avenue, Box 14, Anchorage, AK 99513-7587; telephone number (907) 271-5898; fax: (907) 271-2850; e-mail: martha.ctr.dunn@faa.gov. Internet address: http://www.faa.gov/about/office_org/headquarters_offices/ato/service_units/systemops/fs/alaskan/rulemaking/.

SUPPLEMENTARY INFORMATION:

History

On Tuesday, April 19, 2011, the FAA published a notice of proposed rulemaking in the Federal Register to amend Class E airspace to accommodate new SIAPS at Yakutat Airport, Yakutat, AK (76 FR 21832).

Interested parties were invited to participate in this rulemaking proceeding by submitting written comments on the proposal to the FAA. Three comments were received. One commenter noted that the proposed rule incorrectly referred to the Yakutat VORTAC: The correct navigational aid is the Yakutat VOR/DME. The rule has been changed to correct that error. The second commenter suggested that the portion of the proposed Class E airspace overlaying Canadian airspace should be excluded. The FAA has found merit in this and has adjusted the airspace to exclude that area outside of U.S. airspace. The third commenter noted that a portion of the airspace overlies offshore airspace beyond 12 NM from the shoreline (Control 1487L) which should be revised to reflect the change in the 1,200 ft. airspace. The FAA agrees and that change is being incorporated in a separate offshore airspace rulemaking. The FAA also noted that two of the longitudes used in the geographic coordinates for the airspace description were incorrectly rounded. This action corrects that error.

The Class E airspace areas designated as 700/1,200 ft. transition areas are published in paragraph 6005 of FAA Order 7400.9U, Airspace Designations and Reporting Points, dated August 18, 2010, and effective September 15, 2010, which is incorporated by reference in 14 CFR 71.1. The Class E airspace designations listed in this document will be published subsequently in the Order.

The Rule

This action amends Title 14 Code of Federal Regulations (14 CFR) part 71 by revising Class E airspace to accommodate eight amended standard instrument approach procedures at the Yakutat Airport, Yakutat, AK. This action provides adequate controlled airspace upward from 700 feet and 1,200 feet above the surface for the safety and management of IFR operations at Yakutat Airport. A portion of the 1,200 foot controlled airspace extends over Offshore Airspace Control 1487L which has been amended in a separate rulemaking. With the exception of editorial changes, and the changes described above, this rule is the same as that proposed in the NPRM.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Because this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safety of aircraft and the efficient use of airspace. This regulation is within the scope of that authority because it creates additional Class E airspace at the Yakutat Airport, Yakutat, AK for the safe and efficient use of the National Airspace System.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9U, Airspace Designations and Reporting Points, dated August 18, 2010, and effective September 15, 2010, is amended as follows:

* * * * *

Paragraph 6005 Class E airspace extending upward from 700 Feet or more above the surface of the earth.

* * * * *

AAL AK E5 Yakutat, AK [Revised]

Yakutat Airport, AK

(Lat. 59°30′12″ N., long. 139°39′37″ W.)

Yakutat VOR/DME

(Lat. 59°30′39″ N., long. 139°38′53″ W.)

That airspace extending upward from 700 feet above the surface within the area bounded by lat. 59°47′42″ N., 139°58′48″ W., to lat. 59°37′33″ N., long. 139°40′54″ W., then along the 7 mile radius of the Yakutat VOR/DME clockwise to 59°28′54″ N., long. 139°25′36″ W., to lat. 59°20′16″ N., long. 139°10′20″ W., to lat. 59°02′49″ N. long. 139°47′45″ W., to lat. 59°30′15″ N. long. 140°36′43″ W., to the point of beginning, excluding that area outside 12 miles from the shoreline within Gulf of Alaska Low Control Area; and that airspace extending upward from 1,200 feet above the surface within a 75-mile radius of the Yakutat VOR/DME, excluding that area extending over Canada, and that area outside 12 miles from the shoreline within Control 1487L.

Issued in Anchorage, AK, on June 30, 2011.
Michael A. Tarr,
Manager, Alaska Flight Services.

[FR Doc. 2011-17973 Filed 7-21-11; 8:45 am]

BILLING CODE 4910-13-P